DEPARTMENT OF THE INTERIOR

National Park Service

[NPS-WASO-NRNHL-DTS#-37212; PPWOCRADI0, PCU00RP14.R50000]

National Register of Historic Places; Notification of Pending Nominations and Related Actions

AGENCY: National Park Service, Interior.

ACTION: Notice.

SUMMARY: The National Park Service is soliciting electronic comments on the significance of properties nominated before December 30, 2023, for listing or related actions in the National Register of Historic Places.

DATES: Comments should be submitted electronically by January 23, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before December 30, 2023. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name (if applicable), Address/Boundary, City, Vicinity, Reference Number.

ARIZONA

Maricopa County

Windes, Dudley and Hope, Farmstead, 8841 S 27th Avenue, Phoenix, SG100009923

Luhrs Building (Phoenix Commercial MRA), 11 W Jefferson, Phoenix, 85003561

CALIFORNIA

Amador County

Preston School of Industry, 201 Waterman Road, Ione, SG100009890

CONNECTICUT

Middlesex County

Commerce Street Historic District, 10-34, 38, 52, 58, odd #s 59-105, 109-125, 140-142 Commerce St., 7-9 Fisk Ave., Clinton, SG100009867

IDAHO

Bonneville County

St. John Lutheran Church, 290 7th Street, Idaho Falls, SG100009872

Canyon County

Melba I.O.OF. Lodge Hall,

310 Carrie Rex Avenue, Melba, SG100009871

Latah County

Deary Garage, 307 Main Street, Deary, SG100009873

Oneida County

American Legion Malad Post 65, 78 N Main St., Malad, SG100009874

NEW YORK

Dutchess County

Standard Gage Company Plant, 58 Parker Avenue, Poughkeepsie, SG100009881

Erie County

Winspear Extension Historic District, 393-638 Highgate Avenue; 16-258 Rounds Avenue (north side only); 361-605 B street & number and 412-604 Winspear Avenue; Orleans Street and Suffolk Street between Winspear Avenue and Rounds Avenue, Buffalo, SG100009880

Essex County

Wadhams Grange Hall, 774 NYS Route 22, Westport, SG100009879

Ontario County

South Farmington Friends Cemetery and Meetinghouse Site, 4899 Shortsville Rd. & County Road 28, Farmington, SG100009878

Ulster County

William H. and Mary M. Romeyn House, 52 St. James Street, Kingston, SG100009877

Wayne County

Third Methodist Episcopal Church of Sodus, 56-58 West Main Street, Sodus, SG100009875

OHIO

Mahoning County

Legal Arts Centre, 101 Market Street, Youngstown, SG100009920

Trumbull County

Youngstown Country Club, 1402 Country Club Drive, Youngstown, SG100009888

OKLAHOMA

Okmulgee County

Grayson Jail, approx. 200 ft west, intersection of Perkins St. and Finley St., Grayson, SG100009891

PENNSYLVANIA

Crawford County

William and Elisabeth Edwards House, 128 Davenport Street, Spartansburg, SG100009921

Dauphin County

Zembo Shrine, 2801 North Third Street, Harrisburg, SG100009919

Lehigh County

Nineteenth Street Theater, 527 N Nineteenth Street, Allentown, SG100009917

Northampton County

Bath Crossroads Historic District, Roughly 12 blocks centered around Chestnut and Main streets, Bath, SG100009916

Philadelphia County

Pringle Electrical Manufacturing Company Building, 1906-12 N 6th Street, Philadelphia, SG100009918

SOUTH CAROLINA

Aiken County

McGhee Block, 201-209 Richland Avenue W, Aiken, SG100009883

Spartanburg County

Groce, Augustus Belton and Margaret Wheeler, House, 110 Ridge Road, Lyman, SG100009889

TEXAS

Austin County

Bellville Turnverein, 966 East Main Street, Bellville, SG100009870

Bexar County

Hugo & Schmeltzer Company Warehouse, 1226 E Houston Street, San Antonio, SG100009887

Dallas County

Longhorn Ballroom, 200 Corinth Street, Dallas, SG100009894

Harris County

Lightfoot, Ewart H. and Lillian, House, 3702 Audubon Place, Houston, SG100009922

Nueces County

Ritz Theatre, 715 North Chaparral Street, Corpus Christi, SG100009892

Potter County

Herring Hotel, 311 SE 3rd Avenue, Amarillo, SG100009886

Refugio County

Mitchell-Simmons House, 904 Commerce Street, Refugio, SG100009893

Tarrant County

Oil & Gas Building, 309 W 7th Street, Fort Worth, SG100009864

Victoria County

Bernhard Electric Building, 103-109 E Goodwin Avenue, Victoria, SG100009882

WISCONSIN

Brown County

Sunset Circle Residential Historic District, 600-680 Sunset Circle; 3325 Vista Road, Allouez, SG100009865

A request for removal has been made for the following resource(s):

HAWAII

Honolulu County

FALLS OF CLYDE, Pier 7, Honolulu Harbor, Honolulu, OT73000659

An additional documentation has been received for the following resource(s):

INDIANA

Franklin County

Brookville Historic District (Additional Documentation), Bounded by E and W fork of Whitewater River and IN 101, Brookville, AD75000018

Authority: Section 60.13 of 36 CFR part 60.

Sherry A. Frear,
Chief, National Register of Historic Places/National Historic Landmarks Program.

[FR Doc. 2024-00143 Filed 1-5-24; 8:45 am]

BILLING CODE 4312-52-P